NATIONAL SCIENCE FOUNDATION

National Science Board; Sunshine Act Meeting

DATE AND TIME: March 15, 2001: 12 Noon-12:30 p.m.: Closed Session; March 15, 2001: 1 p.m.-2 p.m.: Closed Session; March 15, 2001: 2 p.m.-5 p.m.: Open Session.

PLACE: The National Science Foundation, Room 1235, 4201 Wilson Boulevard, Arlington, VA 22230.

STATUS: Part of this meeting will be closed to the public; Part of this meeting will be open to the public.

MATTERS TO BE CONSIDERED:

Thursday, March 15, 2001

Closed Session (12 Noon-12:30 p.m.)

—Closed Session Minutes, December 2000

—Personnel

—Vannevar Bush Award

—Alan T. Waterman Award

—NSB Member Proposal

Closed Session (1 p.m.-2 p.m.)

—Awards and Agreements

—FY 2002 and FY 2003 Budgets

Open Session (2 p.m.-5 p.m.)

—Swearing-in, Mark Wrighton

—Open Session Minutes, December 2000

—Closed Session Items for May 2001

—Chairman's Report

—Director's Report

—Polar Programs Recognition

—Report: Allocating Federal Resources for S&T

—Director's Merit Review Report

—Committee Reports

—Other Business

Marta Cehelsky,
Executive Officer.

[FR Doc. 01-5634 Filed 3-2-01; 4:43 pm]

BILLING CODE 7555-01-M